DEPARTMENT OF COMMERCE

National Oceanic and Atmospheric Administration

RIN 0648-XV087

Caribbean Fishery Management Council; Public Meeting

AGENCY: National Marine Fisheries Service (NMFS), National Oceanic and Atmospheric Administration (NOAA), Commerce.

ACTION: Notice of a public webinar meeting.

SUMMARY: The Caribbean Fishery Management Council will hold a webinar meeting to consider establishing an advisory panel concerning Ecosystem-Based Fishery Management. The items to be discussed are contained in the agenda included in the SUPPLEMENTARY INFORMATION.

DATES: The webinar meeting will be held on October 23, 2019, from 10 a.m. to 5 p.m.

ADDRESSES: The webinar meeting will be held through GoToMeeting. You can join the meeting from your computer, tablet or smartphone at https://global.gotomeeting.com/join/765313029. You can also dial in using your phone. United States: +1 (786) 535-3211 Access Code: 765-313-029. If joining from a video-conferencing room or system, depending on your device, dial: 765313029@67.217.95.2 or 67.217.95.2##765313029

FOR FURTHER INFORMATION CONTACT: Miguel A. Rolón, Caribbean Fishery Management Council, 270 Muñoz Rivera Avenue, Suite 401, San Juan, Puerto Rico 00918-1903, telephone: (787) 766-5926.

SUPPLEMENTARY INFORMATION:

October 23, 2019, 10 a.m.-12 noon

○ Considerations for Establishing an Ecosystem-Based Fishery Management Advisory Panel

○ Action to Establish Advisory Panel (AP)

1:30 p.m.-2:30 p.m.

○ Closed Session to Discuss AP Membership, if Established, and Internal Administrative Matters.

2:45 p.m.-5 p.m.

○ Time Schedule for Continuing the Development of the Ecosystem-Based Fishery Management Plan (EBFMP)

○ Other Business

The order of business may be adjusted as necessary to accommodate the completion of agenda items.

Special Accommodations

For more information on this webinar, please contact Mr. Miguel A. Rolón, Executive Director, Caribbean Fishery Management Council, 270 Muñoz Rivera Avenue, Suite 401, San Juan, Puerto Rico 00918-1903, telephone: (787) 766-5926.

Dated: October 1, 2019.
Tracey L. Thompson,
Acting Deputy Director, Office of Sustainable Fisheries, National Marine Fisheries Service.

[FR Doc. 2019-21647 Filed 10-3-19; 8:45 am]

BILLING CODE 3510-22-P